DEPARTMENT OF HOUSING AND URBAN DEVELOPMENT

[Docket No. FR-5147-C-01]

Capacity Building for Community Development and Affordable Housing Grants; Technical Correction and Extension of Application Deadline

AGENCY: Office of the Assistant Secretary for Community Planning and Development, HUD.

ACTION: Notice of funding availability (NOFA); technical correction and notice of extension of application deadline.

SUMMARY: On September 18, 2007, HUD published a NOFA for Capacity Building for Community Development and Affordable Housing Grants. To clarify the scope of eligible applicants, HUD has decided to publish this technical correction. Additionally, to permit eligible applicants sufficient time to prepare their applications for assistance, HUD has also determined to extend the deadline.

DATES: The application deadline date for the Capacity Building for Community Development and Affordable Housing Grants competition is January 11, 2008 at 11:59:59 p.m.

FOR FURTHER INFORMATION CONTACT: Karen Daly, Director, Office of Policy Development and Coordination, Office of Community Planning and Development, Department of Housing and Urban Development, 451 Seventh Street, SW., Room 7240, Washington, DC 20410-7000; telephone 202-708-1817 (this is not a toll-free number). Persons with speech or hearing impairments may access this number through TTY by calling the toll-free Federal Income Relay Service at 800-877-8339.

SUPPLEMENTARY INFORMATION: On September 18, 2007 (72 FR 53255), HUD published in the Federal Register its FY2007 Capacity Building for Community Development and Affordable Housing NOFA. The Capacity Building for Community Development and Affordable Housing NOFA makes approximately $29,590,000 available to carry out the eligible activities related to affordable housing and community development for the capacity building program. As noted in the September 18, 2007, Federal Register publication, this competition is limited to the four organizations identified in section 4 of the HUD Demonstration Act of 1993. HUD included a list of the four eligible organizations but failed to provide sufficient specific information to eliminate questions regarding eligibility. To eliminate any confusion, HUD is publishing this correction to specifically identify the four eligible applicants. Accordingly, the only applicants eligible for this competition are the following four organizations located at the following addresses:

Enterprise Community Partners, Inc., 10227 Wincopin Circle, Suite 500, Columbia, MD 21044.

Local Initiatives Support Corporation, 501 Seventh Avenue, 7th Floor, New York, NY 10018.

Habitat for Humanity International, 121 Habitat Street, Americus, GA 31709.

YouthBuild USA, 58 Day Street, Somerville, MA 02144.

Affiliates and local offices of these organizations and their community partners are not eligible to compete either directly or independently for capacity building grants under this notice, but rather may seek funding from the above organizations that are awarded through this competition.

In order to avoid any difficulties that might arise from the questions regarding the scope of eligible applicants, HUD has determined to extend the application deadline date for the Capacity Building for Community Development and Affordable Housing Grants competition to January 11, 2008 at 11:59:59 p.m. Extending the deadline date will also permit applicants to have an additional time to obtain assistance from the Grants.gov desk help at 800-518-GRANTS (this is a toll free number). Potential applicants are advised that the provisions of the Capacity Building for Community Development and Affordable Housing Grants NOFA that discuss timely receipt of applications continue to apply. Specifically, section IV.A. of the Capacity Building for Community Development and Affordable Housing Grants NOFA (72 FR 52356) provides that all applications must be received and validated by Grants.gov; or received no later than 11:59:59 on the deadline date. In order to ensure timely receipt, HUD strongly recommends applicants submit their electronic applications 48-72 hours prior to the deadline to ensure the application validation is processed prior to the deadline.

Dated: November 2, 2007.
Nelson R. Bregón,
General Deputy Assistant Secretary for Community Planning and Development.

[FR Doc. E7-21890 Filed 11-7-07; 8:45 am]

BILLING CODE 4210-67-P